FEDERAL RETIREMENT THRIFT INVESTMENT BOARD

Employee Thrift Advisory Council

October 29, 2019, 1:00 p.m., 77 K Street NE, Washington, DC 20002

1. Approval of the minutes of the May 29, 2019 Joint Board/ETAC meeting

2. Investment Benchmark Update

3. FY2020 Budget Briefing

4. Spillover Implementation

5. 5% Auto Enrollment Implementation

6. Two Step Account Authentication

7. Additional Withdrawals Implementation Update

9. New Business

Contact Person For More Information: Kimberly Weaver, Director, Office of External Affairs, (202) 942-1640.

Dated: October 18, 2019.
Megan Grumbine,
General Counsel, Federal Retirement Thrift Investment Board.

[FR Doc. 2019-23153 Filed 10-23-19; 8:45 am]

BILLING CODE 6760-01-P